DEPARTMENT OF AGRICULTURE

Farm Service Agency

Notice of Funds Availability; Tree Assistance Program for Michigan Tree, Vine and Bush Losses Due to Fire Blight

AGENCY: Farm Service Agency, USDA.

ACTION: Notice.

SUMMARY: This notice announces the availability of $9,700,000 for the Tree Assistance Program (TAP) to provide assistance to orchardists who had tree, vine or bush losses in Michigan due to fire blight that occurred since January 1, 2000.

DATES: Applications will be accepted until March 25, 2004, or such other date as announced by the Deputy Administrator for Farm Programs of the Farm Service Agency (FSA).

FOR FURTHER INFORMATION CONTACT: Eloise Taylor, Chief, Compliance Branch, Production, Emergencies and Compliance Division, FSA/USDA, Stop 0517, 1400 Independence Avenue SW., Washington, DC 20250-0517; telephone (202) 720-9882; e-mail: Eloise_Taylor@wdc.usda.gov. Persons with disabilities who require alternative means for communication of regulatory information, (Braille, large print, audiotape, etc. should contact USDA's TARGET Center at (202) 720-2600 (voice and TDD).

SUPPLEMENTARY INFORMATION:

Background

TAP was authorized but not funded by section 10201 of the Farm Security and Rural Investment Act of 2002 (Pub. L. 107-171) (7 U.S.C. 8201) to provide assistance to eligible orchardists to replant trees, bushes and vines that were grown for the production of an annual crop and were lost due to a natural disaster. This notice sets out a special program within TAP for certain fire blight losses in Michigan. Fire blight is a destructive bacterial disease of trees caused by Erwinia Amylovora that attacks succulent tissues of blossoms, shoots, water sprouts and root suckers, and produces an infection that may extend into scaffold limbs, trunks or root systems, and may kill the tree. Section 3602 of the Emergency Supplemental Appropriations Act, 2003 (Pub. L. 108-83) provides that the Secretary of Agriculture shall use $9,700,000 of the funds of the Commodity Credit Corporation, to remain available until expended, to provide assistance under TAP to compensate eligible orchardists for tree losses incurred since January 1, 2000, due to fire blight in the State of Michigan. Assistance will be subject to regulations and restrictions governing the new TAP provided in the 2002 Act. Those regulations were published March 2, 2004 (69 FR 69 FR 9744) and are found at 7 CFR part 783. Also, the restrictions of the statute apply. Those include a requirement of replanting, a limitation on payments by “person”, a limitation on acres for which relief can be claimed, a requirement that the loss be tied to a natural disaster, and others. If after the claims filed during the allowed period set out in this notice are received, the available funds are less than the eligible claims a proration will be made. Claims are limited to 75 per cent of the cost of replanting on eligible acres and are subject to claims per person of $75,000 and a limit on a claim to costs on no more than 500 acres. If monies are, by contract, left over, additional sign ups or claims may be entertained as announced by the Deputy Administrator for Farm Programs of the FSA on behalf of FSA and CCC. The Deputy Administrator may waive or amend deadlines to the extent not prohibited by the statute. Statutory TAP provisions dealing with the availability of seedlings do not apply here because no seedlings are available and the fire blight provisions specifically call for the use of CCC funds. All claims are subject to the availability of funds.

Applications

Applications will be accepted until March 25, 2004, or such other date as announced by the Deputy Administrator for Farm Programs of FSA.

Application forms are available for TAP at FSA county offices or on the Internet at http://www.fsa.usda.gov. A complete application for TAP benefits and related supporting documentation must be submitted to the county office before the deadline.

A complete application will include all of the following:

(1) A form provided by FSA;

(2) A written estimate of the number of trees, bushes or vines lost or damaged which is prepared by the owner or someone who is a qualified expert, as determined by the FSA county committee;

(3) The number of acres on which the loss was suffered;

(4) Sufficient evidence of the loss to allow the county committee to calculate whether an eligible loss occurred; and

(5) Other information as requested or required by regulation.

Signed at Washington, DC March 2, 2004.
James R. Little,
Administrator, Farm Service Agency.

[FR Doc. 04-5494 Filed 3-10-04; 8:45 am]

BILLING CODE 3410-05-P